DEPARTMENT OF HEALTH AND HUMAN SERVICES

National Institutes of Health

National Heart, Lung, and Blood Institute; Notice of Meeting

Pursuant to section 1009 of the Federal Advisory Committee Act, as amended, notice is hereby given of a meeting of the National Heart, Lung, and Blood Advisory Council.

The meeting will be open to the public, with attendance limited to space available. Individuals who plan to attend and need special assistance, such as sign language interpretation or other reasonable accommodations, should notify the Contact Person listed below in advance of the meeting. The open session will be videocast and can be accessed from the NIH Videocasting and Podcasting website at https://www.nhlbi.nih.gov/about/advisory-and-peer-review-committees/advisory-council.

Name of Committee: National Heart, Lung, and Blood Advisory Council.

Date: December 10, 2025.

Open: 12:00 p.m. to 1:30 p.m.

Agenda: To Discuss Program Policies and Issues.

Place: National Institutes of Health, Rockledge I Building, 6705 Rockledge Drive, Bethesda, MD 20892.

Meeting Format: Virtual.

Contact Person: Charisee Lamar, Ph.D., M.P.H., R.R.T., Director, Division of Extramural Research Activities, National Heart, Lung, and Blood Institute, National Institutes of Health, 6705 Rockledge Drive, Room 206-Q, Bethesda, MD 20892, 301-827-5517, lamarc@mail.nih.gov.

Registration is not required to attend the open portion of this meeting.

Any interested person may file written comments with the committee by forwarding the statement to the Contact Person listed on this notice. The statement should include the name, address, telephone number and when applicable, the business or professional affiliation of the interested person.

Information is also available on the Institute's/Center's home page: https://www.nhlbi.nih.gov/about/advisory-and-peer-review-committees/advisory-council where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Denise M. Santeufemio,
Supervisory Program Analyst, Office of Federal Advisory Committee Policy.

[FR Doc. 2025-20758 Filed 11-21-25; 8:45 am]

BILLING CODE 4140-01-P